ENVIRONMENTAL PROTECTION AGENCY

[FRL OP-OFA-010]

Environmental Impact Statements; Notice of Availability

Responsible Agency: Office of Federal Activities, General Information 202-564-5632 or https://www.epa.gov/nepa.

Weekly receipt of Environmental Impact Statements (EIS)

Filed March 21, 2022 10 a.m. EST Through March 28, 2022 10 a.m. EST

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20220040, Draft, USACE, CA, Thousand Palms Flood Control Project Draft EIR/EIS, Comment Period Ends: 05/16/2022, Contact: Michael Langley 602-230-6953

EIS No. 20220041, Final Supplement, FHWA, KS, South Lawrence Trafficway, Review Period Ends: 05/02/2022, Contact: Javier Ahumada 785-273-2649

EIS No. 20220042, Draft Supplement, USACE, LA, South Central Coast Louisiana Supplemental Draft Integrated Feasibility Study with Environmental Impact Statement, Comment Period Ends: 05/16/2022, Contact: Joe Jordan 309-794-5791

Dated: March 28, 2022.
Cindy S. Barger,
Director, NEPA Compliance Division, Office of Federal Activities.

[FR Doc. 2022-06900 Filed 3-31-22; 8:45 am]

BILLING CODE 6560-50-P